NUCLEAR REGULATORY COMMISSION

10 CFR Parts 50 and 52

[NRC-2015-0225]

RIN 3150-AJ68

Emergency Preparedness Requirements for Small Modular Reactors and Other New Technologies

AGENCY: Nuclear Regulatory Commission.

ACTION: Regulatory basis; availability.

SUMMARY: The U.S. Nuclear Regulatory Commission (NRC) is making available a regulatory basis document in support of a rulemaking that would develop new emergency preparedness (EP) requirements for small modular reactors (SMRs) and other new technologies (ONTs), such as non-light-water reactors and medical isotope production facilities. The regulatory basis concludes that there is sufficient justification to proceed with rulemaking to develop a clear set of rules and guidance for EP for SMRs and ONTs. The regulatory basis also concludes that the principle of using a dose-at-distance and consequence-oriented approach to determine the appropriate size of an emergency planning zone can be applied to SMRs and ONTs. The NRC is not seeking public comment on this document. There will be an opportunity for formal public comment on the proposed rule when it is published in the Federal Register.

DATES: The regulatory basis is available on November 15, 2017.

ADDRESSES: Please refer to Docket ID NRC-2015-0225 when contacting the NRC about the availability of information for this action. You may obtain publicly-available information related to this action by any of the following methods:

• Federal Rulemaking Web site: Go to http://www.regulations.gov and search for Docket ID NRC-2015-0225. Address questions about NRC dockets to Carol Gallagher; telephone: 301-415-3463; email: Carol.Gallagher@nrc.gov. For technical questions, contact the individuals listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in the SUPPLEMENTARY INFORMATION section.

• NRC's PDR: You may examine and purchase copies of public documents at the NRC's PDR, Room O1-F21, One White Flint North, 11555 Rockville Pike, Rockville, Maryland 20852.

FOR FURTHER INFORMATION CONTACT: Andrew Carrera, Office of New Reactors, telephone: 301-415-1078, email: Andrew.Carrera@nrc.gov; and Edward Roach, Office of Nuclear Security Incident and Response, telephone: 301-287-9228, email: Edward.Roach@nrc.gov. Both are staff of the U.S. Nuclear Regulatory Commission, Washington, DC 20555-0001.

SUPPLEMENTARY INFORMATION:

I. Background

The NRC published the draft regulatory basis in the Federal Register on April 13, 2017 (82 FR 17768), for a 75-day public comment period. In the draft regulatory basis, the NRC requested feedback from the public on questions related to the scope of the draft regulatory basis, performance-based approach, regulatory impacts, and cumulative effects of regulation.

The NRC received 57 written comments from governmental and non-governmental organizations and individuals, which are available at https://www.regulations.gov under Docket ID NRC-2015-0225. The commenters included approximately 45 individuals, 4 environmental groups, 3 industry groups, 1 Native American Tribal organization, 3 State organizations, and 1 Federal agency. The comments discussed topics such as: Consequence-based approach, collocation, dose assessment, emergency planning zone and offsite EP, siting of multi-module facilities, regulatory analysis, scope of the draft regulatory basis, safety, and general rulemaking principles such as performance-based and technology-inclusive approaches. The NRC staff considered the comments in finalizing the regulatory basis. The regulatory basis is available in ADAMS under Accession No. ML17206A265 or on the Federal rulemaking Web site, www.regulations.gov, under Docket ID NRC-2015-0225.

II. Publicly-Available Documents

As the NRC continues its ongoing proposed rulemaking effort to implement EP requirements for SMRs and ONTs in parts 50 and 52 of title 10 of the Code of Federal Regulations, the NRC is making documents publicly available on the Federal rulemaking Web site, www.regulations.gov, under Docket ID NRC-2015-0225. The current status of this rulemaking effort, as well as other NRC planned rulemaking activities, can be found on the NRC public Web site at https://www.nrc.gov/reading-rm/doc-collections/rulemaking-ruleforum/active/RuleIndex.html.

The NRC may post additional materials relevant to this rulemaking at www.regulations.gov, under Docket ID NRC-2015-0225. Please take the following actions if you wish to receive alerts when changes or additions occur in a docket folder: (1) Navigate to the docket folder (NRC-2015-0225); (2) click the “Email Alert” link; and (3) enter your email address and select how frequently you would like to receive emails (daily, weekly, or monthly).

Dated at Rockville, Maryland, this 8th day of November, 2017.
For the Nuclear Regulatory Commission.
Patricia K. Holahan,
Director, Division of Rulemaking, Office of Nuclear Material Safety and Safeguards.

[FR Doc. 2017-24672 Filed 11-14-17; 8:45 am]

BILLING CODE 7590-01-P